DEPARTMENT OF HOMELAND SECURITY

[Docket No. DHS-2011-0018]

Protected Critical Infrastructure Information (PCII) Stakeholder Survey

AGENCY: National Protection and Programs Directorate, DHS.

ACTION: 30-day notice and request for comments; New Information Collection Request: 1670-NEW

SUMMARY: The Department of Homeland Security (DHS), National Protection and Programs Directorate (NPPD), Office of Infrastructure Protection (IP), will submit the following Information Collection Request (ICR) to the Office of Management and Budget (OMB) for review and clearance in accordance with the Paperwork Reduction Act of 1995 (Pub. L. 104-13, 44 U.S.C. Chapter 35). NPPD is soliciting comments concerning New Information Collection Request, Protected Critical Infrastructure Information (PCII) Stakeholder Survey. DHS previously published this ICR in the Federal Register on March 31, 2011, for a 60-day public comment period. DHS received no comments. The purpose of this notice is to allow an additional 30 days for public comments.

DATES: Comments are encouraged and will be accepted until September 14, 2011. This process is conducted in accordance with 5 CFR 1320.10.

ADDRESSES: Interested persons are invited to submit written comments on the proposed information collection to the Office of Information and Regulatory Affairs, OMB. Comments should be addressed to OMB Desk Officer, Department of Homeland Security, Office of Civil Rights and Civil Liberties. Comments must be identified by DHS-2011-0018 and may be submitted by one of the following methods:

• Federal eRulemaking Portal: http://www.regulations.gov.

• E-mail: oira_submission@omb.eop.gov. Include the docket number in the subject line of the message.

• Fax: (202) 395-5806

Instructions: All submissions received must include the words “Department of Homeland Security” and the docket number for this action. Comments received will be posted without alteration at http://www.regulations.gov, including any personal information provided.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

FOR FURTHER INFORMATION CONTACT: Emily Hickey, DHS/NPPD/IP, Emily.Hickey@dhs.gov.

SUPPLEMENTARY INFORMATION: The PCII Program was created by Congress under the Critical Infrastructure Information Act of 2002 (CII Act), Sections 211-215, Title II, Subtitle B of the Homeland Security Act of 2002, Public Law 107-296, to encourage voluntary information sharing by owners and operators of critical infrastructure and protected systems. The PCII Program is implemented by 6 CFR Part 29, Procedures for Handling Critical Infrastructure Information; Final Rule (the Regulation), which was issued in 2006. PCII refers to validated and marked critical infrastructure information not customarily in the public domain and related to the security of critical infrastructure or protected systems, which is voluntarily submitted to DHS for homeland security purposes. The PCII Program offers protection from public disclosure through the Freedom of Information Act (FOIA), state and local sunshine laws, and civil litigation. The PCII Program is administered by DHS/NPPD/IP's Infrastructure Information Collection Division.

The PCII Program helps government analysts, emergency responders, and other homeland security professionals access data about facilities and systems on which the country depends. The PCII Program is responsible for ensuring compliance with the Regulation's uniform procedures for the handling, use, dissemination, and safeguarding of PCII. In this capacity, the PCII Program oversees a community of stakeholders, including submitters of CII, authorized users of PCII and accredited Federal, state, and local entities with homeland security duties. This survey is designed to gather information from PCII Officers that can be used to improve these relationships and to maximize the value that the PCII Program is offering to its Federal, state, and local government users. Both the CII Act and its implementing regulations stress the voluntary nature of the PCII Program, so collecting information that will assist in making the PCII Program attractive to its stakeholders will allow the PCII Program to better accomplish the statute's goals.

The data collected in this survey will be used by the PCII Program to improve relationships with stakeholders and maximize the value of the program. The survey data collected is for internal PCII Program and DHS/NPPD/IP use only. The PCII Program will use the results from the stakeholder to determine levels of satisfaction with the PCII Program and identify areas that require additional communication, identify areas for improvement with the PCII Management System (PCIIMS), and help determine the future direction of the Program.

The survey is administered using a web-based survey tool, Vovici Enterprise Feedback Management (EFM). Automating the PCII Stakeholder Survey reduces the respondent burden of responding to a paper survey or a telephone interview. The staff burden of manually administering a survey and accurately collecting data is also reduced. Automation also captures participants' typed comments, eliminating time-consuming transcription and manual inaccuracies.

The PCII Stakeholder Survey does not collect personally identifiable information. The survey instrument states that the survey is voluntary and the information will be kept private or anonymous to the extent allowable by law.

Analysis

Agency: Department of Homeland Security, National Protection and Programs Directorate, Office of Infrastructure Protection.

Title: Protected Critical Infrastructure Information (PCII) Stakeholder Survey.

OMB Number: 1670-NEW.

Frequency: Annually.

Affected Public: State, Local, or Tribal Government.

Number of Respondents: 100 respondents.

Estimated Time per Respondent: .1333 hours.

Total Burden Hours: 13.5 annual burden hours.

Total Burden Cost (capital/startup): $10,566.

Total Burden Cost (operating/maintaining): $4,158.

Dated: August 3, 2011.
David Epperson,
Chief Information Officer, National Protection and Programs Directorate, Department of Homeland Security.

[FR Doc. 2011-20738 Filed 8-12-11; 8:45 am]

BILLING CODE 9110-9P-P